DEPARTMENT OF TRANSPORTATION

Research and Special Programs Administration

[Docket RSPA-98-4957; Notice 04-03]

Agency Information Collection Activities; Proposals, Submissions, and Approvals

ACTION: Request for Extension of Existing Information Collection.

AGENCY: Research and Special Programs Administration, DOT.

SUMMARY: In accordance with the Paperwork Reduction Act of 1995, the Research and Special Program Administration (RSPA) is publishing this notice seeking public comments on a proposed renewal of an information collection, “Reporting of Safety-Related Conditions on Gas, Hazardous Liquid and Carbon Dioxide Pipelines and Liquefied Natural Gas Facilities.”

DATES: Comments on this notice must be received no later than April 13, 2004 to be assured of consideration.

ADDRESSES: You must identify the docket number RSPA-98-4957; Notice 04-03, at the beginning of your comments. Comments can be mailed to the U.S. Department of Transportation, Dockets Facility, Plaza 401, 400 Seventh Street, SW., Washington, DC 20590. Comments can also be sent electronically by visiting dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) of you may visit http://dms.dot.gov.

FOR FURTHER INFORMATION CONTACT: Marvin Fell, Office of Pipeline Safety, Research and Special Programs Administration, U.S. Department of Transportation, 400 Seventh Street, SW., Washington, DC 20590, (202) 366-6205, by fax at (202) 366-4566, or via electronic mail at marvin.fell@rspa.dot.gov.

SUPPLEMENTARY INFORMATION: Title: Reporting of Safety-Related Conditions on Gas, Hazardous Liquid, and Carbon Dioxide Pipelines and Liquefied Natural Gas Facilities.

OMB Number: 2137-0578.

Type of Request: Renewal of existing information collection.

Abstract: 49 U.S.C. 60102 requires each operator of a pipeline facility (except master meter) to submit to the Department of Transportation a written report on any safety-related condition that causes or has caused a significant change or restriction in the operation of a pipeline facility or a condition that is a hazard to life, property or the environment.

Estimate of Burden: The average burden hour per response is 6 hours.

Respondents: Pipeline and Liquefied Natural Gas facility operators.

Estimated response per year: 65.

Estimated Total Annual Burden on Respondents: 390 hours.

Use: To alert RSPA of hazardous conditions that might continue uncorrected.

Copies of this information can be reviewed at the Dockets Unit, Plaza 401, U.S. Department of Transportation, 400 Seventh Street, SW., Washington, DC, 9 a.m. to 5 p.m., Monday through Friday excluding Federal Holidays or through the internet at dms.dot.gov.

Comments are invited on (a) the need for the proposed collection of information for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who respond including the use of the appropriate automated, electronic, mechanical, or other technological collection techniques. Send written comments in duplicate to Dockets Facility, Plaza 401, U.S. Department of Transportation, 400 Seventh Street, SW., Washington, DC 20590. Please be sure to include the docket number RSPA-98-4957 Notice 04-03. Comments can also be sent electronically by visiting dms.dot.gov.

Issued in Washington, DC on February 9, 2004.
Richard D. Huriaux,
Regulations Manager, Office of Pipeline Safety.

[FR Doc. 04-3275 Filed 2-12-04; 8:45 am]

BILLING CODE 4910-60-P